DEPARTMENT OF TRANSPORTATION

Federal Highway Administration

Environmental Impact Statement Adoption: Douglas County, KS

AGENCY: Federal Highway Administration (FHWA), DOT.

ACTION: Notice of intent.

SUMMARY: The FHWA is issuing this notice to advise the public of its intent to adopt an existing Final Environmental Impact Statement in accordance with the Council on Environmental Quality regulations, 40 CFR 1506.3. The Final EIS has been prepared and approved by the U.S. Army Corps of Engineers, Kansas City District, for the South Lawrence Trafficway located in Lawrence, Kansas.

FOR FURTHER INFORMATION CONTACT: Mr. Wendall L. Meyer, Assistant Division Administrator, FHWA, Kansas Division Office, 6111 SW., 29th Street, Topeka, KS 66614, Telephone: (785) 228-2544; or Mr. Corky Armstrong, Road Design Engineer, Kansas Department of Transportation, Dwight D. Eisenhower Building, 700 SW Harrison Street, Topeka, KS 66603-3754, Telephone: (785) 296-3901.

SUPPLEMENTARY INFORMATION: The FHWA, in cooperation with the Kansas Department of Transportation (KDOT), intends to adopt an approved Final EIS for the South Lawrence Trafficway located in Lawrence, Kansas. The EIS was prepared by the U.S. Army Corps of Engineers, Kansas City District, as part of a Section 404 Permit Application, Permit Application Number 200101697. The Notice of Intent for the EIS appeared in the FR, Volume 66, Number 152, August 7, 2001. The project consists of construction of a new section of K-10 Highway beginning in Douglas County at the existing K-10/U.S. 59 Highway interchange in southwest Lawrence extending approximately six miles north and east to a location on the existing K-10 alignment near the eastern edge of the City of Lawrence. The preferred alternative would replace the existing K-10 route through Lawrence with a limited access freeway along the southern edge of the city on an alignment identified as 32nd Street Alignment B. The EIS considered the social, environmental, and economic impacts of the project. The No-Action alternative and five roadway corridors with a total of twelve reasonable build alternative alignments were evaluated and discussed in the Draft and Final EIS. The FHWA will also prepare and coordinate the distribution of a Draft and Final Section 4(f) Evaluation for the project, in accordance with 49 U.S.C. 303. These documents will evaluate the reasonable alternatives to determine if they are feasible and prudent as they relate to section 4(f). In addition, FHWA will prepare its own Record of Decision for the South Lawrence Trafficway alternative in accordance with 40 CFR 1505.2. Comments or questions concerning these proposed actions should be directed to the FHWA or KDOT at the addresses provided above.

(Catalog of Federal Domestic Assistance Program Number 20.205, Highway Planning and Construction. The regulations implementing Executive Order 12372 regarding intergovernmental consultation on Federal programs and activities apply to this program.)

Issued on: April 3, 2006.
Wendell L. Meyer,
Assistant Division Administrator, Topeka, Kansas.

[FR Doc. 06-3376 Filed 4-7-06; 8:45 am]

BILLING CODE 4910-22-M